DEPARTMENT OF THE INTERIOR

Bureau of Land Management

[NM-910-04-1020-PG]

Notice of Public Meeting, New Mexico Resource Advisory Council Meeting

AGENCY: Bureau of Land Management, Department of the Interior.

ACTION: Notice of public meeting.

SUMMARY: In accordance with the Federal Land Policy and Management Act and the Federal Advisory Committee Act of 1972, the U.S. Department of the Interior, Bureau of Land Management, New Mexico Resource Advisory Council (RAC) will meet as indicated below.

DATES: The meeting will be held on November 13-14, 2003, at the Hotel Santa Fe, 1501 Paseo de Peralta, Santa Fe, New Mexico, beginning at 8 a.m. both days. The meeting will adjourn approximately 5 p.m. on Thursday and 1 p.m. on Friday. The two established RAC subcommittees may have a late afternoon or an evening meeting on Thursday, November 13, 2003.

On Wednesday, November 12, 2003, there will be a half-day orientation for new RAC members. An optional field trip is planned for the afternoon of November 12, 2003. The public comment period is scheduled for Wednesday, November 12, 2003, from 6-8 p.m. The public may present written comments to the RAC. Each formal Council meeting will also have time allocated for hearing public comments. Depending on the number of persons wishing to comment and time available, individual oral comments may be limited.

SUPPLEMENTARY INFORMATION: The 15-member RAC advises the Secretary of the Interior, through the Bureau of Land Management, on a variety of planning and management issues associated with public land management in New Mexico. All meetings are open to the public. At this meeting, topics for discussion include:

Access, healthy forest initiative, land disposal, overview of the vegetation monitoring and analysis pilot project in New Mexico, oil and gas reclamation standards, update on Otero Mesa, BLM/New Mexico Association of Counties liaison role, and preview of the legacy lands program.

FOR FURTHER INFORMATION CONTACT: Theresa Herrera, New Mexico State Office, Office of External Affairs, Bureau of Land Management, P.O. Box 27115, San Fe, New Mexico 87502-0115, (505) 438-7517.

Dated: October 9, 2003.
Ron Dunton,
Acting State Director.

[FR Doc. 03-26113 Filed 10-15-03; 8:45 am]

BILLING CODE 4310-FB-M